DEPARTMENT OF TRANSPORTATION

Federal Railroad Administration

[Docket Number FRA-2003-15012]

Notice of Petition for Extension of Waiver of Compliance

AGENCY: Federal Railroad Administration (FRA), Department of Transportation (DOT).

ACTION: Notice.

SUMMARY: This document provides the public notice that Canadian National Railway Company (CN) petitioned FRA for relief from certain regulations concerning extraterritorial dispatching.

DATES: FRA must receive comments on the petition by July 7, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Curtis Dolan, Railroad Safety Specialist, FRA Motive Power & Equipment Division, telephone: 334-274-6354, email: curtis.dolan@dot.gov.

SUPPLEMENTARY INFORMATION: Under part 211 of title 49 Code of Federal Regulations (CFR), this document provides the public notice that by letter received March 20, 2025, CN petitioned FRA for an extension of a waiver of compliance from certain provisions of the Federal railroad safety regulations contained at 49 CFR part 241 (United States Locational Requirements for Dispatching of United States Rail Operations). FRA assigned the petition Docket Number FRA-2003-15012.

CN requests relief from 49 CFR 241.7(c), Fringe border dispatching, to allow the continuation of Canadian dispatching of two locations in the U.S.: the portion of the Sprague Subdivision extending approximately 43.8 miles between Baudette and International Boundary, Minnesota, and the portion of the Strathroy Subdivision extending approximately 3.1 miles between Sarnia, Ontario, Canada, through the Paul M. Tellier Tunnel, to Port Huron, Michigan.¹ In support of its request, CN states that, since the initial waiver was granted, “each of these fringe border segments ha[ve] been regularly and safely dispatched from Canada” and this extension ² would allow CN to “continue what it has been safely doing for decades.”

¹ Both of these locations are defined in appendix A to part 241, List of Lines Being Extraterritorially Dispatched in Accordance with the Regulations Contained in 49 CFR part 241, Revised as of October 1, 2002.

² With this petition, CN requests a waiver extension for 10 years.

CN explains that changing dispatching to the U.S. on this section of the Sprague Subdivision “would introduce not just one, but two[] [dispatching] hand-offs, given that the track only briefly enters the United States before re-entering Canada.” Additionally, in reference to the portion of track on the Strathroy Subdivision, CN states that it would be “impractical to require a dispatching transfer underwater in the middle of the single-track tunnel at the precise international border between Canada and the United States.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by July 7, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-10205 Filed 6-4-25; 8:45 am]

BILLING CODE 4910-06-P